DEPARTMENT OF HEALTH AND HUMAN SERVICES

Health Resources and Services Administration

Agency Information Collection Activities: Proposed Collection Comment Request

In compliance with the requirement for opportunity for public comment on proposed data collection projects (section 3506(c) (2) of Title 44, United States Code, as amended by the Paperwork Reduction Act of 1995, Public Law 104-13), the Health Resources and Services Administration (HRSA) will publish periodic summaries of proposed projects being developed for submission to the Office of Management and Budget (OMB) under the Paperwork Reduction Act of 1995. To request more information on the proposed project or to obtain a copy of the data collection plans, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques of other forms of information technology.

Proposed Project: Survey of Safety Net Providers for the Healthy Communities Access Program National Evaluation—New

A survey of 800 safety net providers will be performed to provide essential information not otherwise available for the national evaluation of the Healthy Communities Access Program (Sect. 340, Pub. L. 107-251, Oct. 26, 2002). A preliminary review indicates that this sample of providers provides an adequate representation of provider types of most interest. The survey results will be considered along with information from other quantitative and qualitative data sources (including national, State and local data and information from grantee consortia leaders and clients) in order to develop a Report to Congress in September 2005 and a program evaluation report by September 2006. The survey will collect data for key evaluation goals including coordination and integration of safety net services, capacity and access issues, health care delivery, quality of care, cost savings, sustainability, and provider and patient satisfaction.

The survey of the provider institution's administrator will be multi-modal using mail, telephone, and internet modes of data collection. Mail or internet responses will be requested, with telephone follow-up or survey administration. The key types of providers to be surveyed are those specified in the law as required consortia members (i.e., federally qualified health centers, hospitals, public health departments, and providers serving the medically uninsured and underserved). Two hundred providers of each type will be surveyed. The burden estimate is as follows:

Form | Number of respondents | Responses per respondent | Total reponses | Hours per response | Total burden hours
Survey | 800 | 1 | 800 | .33 | 264

Send comments to Susan G. Queen, Ph.D., HRSA Reports Clearance Officer, Room 14-33, Parklawn Building, 5600 Fishers Lane, Rockville, Maryland 20857. Written comments should be received with 60 days of this notice.

Dated: October 8, 2004.
Tina M. Cheatham,
Director, Division of Policy Review and Coordination.

[FR Doc. 04-23109 Filed 10-13-04; 8:45 am]

BILLING CODE 4165-15-P